DEPARTMENT OF ENERGY

Federal Energy Regulatory Commission

Combined Notice of Filings

Take notice that the Commission has received the following Natural Gas Pipeline Rate and Refund Report filings:

Filings Instituting Proceedings

Docket Numbers: RP17-309-000.

Applicants: Crossroads Pipeline Company.

Description: Penalty Revenue Crediting Report of Crossroads Pipeline Company.

Filed Date: 12/30/16.

Accession Number: 20161230-5039.

Comments Due: 5 p.m. ET 2/3/17.

Docket Numbers: RP17-311-000.

Applicants: Columbia Gulf Transmission, LLC.

Description: Penalty Revenue Crediting Report of Columbia Gulf Transmission, LLC.

Filed Date: 12/30/16.

Accession Number: 20161230-5041.

Comments Due: 5 p.m. ET 2/3/17.

Docket Numbers: RP17-312-000.

Applicants: Columbia Gas Transmission, LLC.

Description: Penalty Revenue Crediting Report of Columbia Gas Transmission, LLC.

Filed Date: 12/30/16.

Accession Number: 20161230-5042.

Comments Due: 5 p.m. ET 2/3/17.

Docket Numbers: RP17-349-000.

Applicants: Black Marlin Pipeline Company.

Description: Petition for Extension of Exemptions from Certain Tariff Provisions of Black Marlin Pipeline Company.

Filed Date: 1/24/17.

Accession Number: 20170124-5238.

Comments Due: 5 p.m. ET 2/6/17.

Docket Numbers: RP17-350-000.

Applicants: Eastern Shore Natural Gas Company.

Description: Compliance filing Filing to Comply with Order in Docket Nos. CP15-18-000, 001 to be effective 3/1/2017.

Filed Date: 1/26/17.

Accession Number: 20170126-5011.

Comments Due: 5 p.m. ET 2/7/17.

Docket Numbers: RP17-351-000.

Applicants: Northern Natural Gas Company.

Description: § 4(d) Rate Filing: 20170126 Interim PRA to be effective 3/1/2017.

Filed Date: 1/26/17.

Accession Number: 20170126-5051.

Comments Due: 5 p.m. ET 2/7/17.

Docket Numbers: RP17-352-000.

Applicants: El Paso Natural Gas Company, L.L.C.

Description: § 4(d) Rate Filing: Negotiated Rate Agreement Update (Pioneer Feb 2017) to be effective 2/1/2017.

Filed Date: 1/26/17.

Accession Number: 20170126-5091.

Comments Due: 5 p.m. ET 2/7/17.

Docket Numbers: RP17-353-000.

Applicants: Kinder Morgan Illinois Pipeline LLC.

Description: Penalty Revenue Crediting Report of Kinder Morgan Illinois Pipeline LLC.

Filed Date: 1/26/17.

Accession Number: 20170126-5102.

Comments Due: 5 p.m. ET 2/7/17.

Docket Numbers: RP17-354-000.

Applicants: Kinder Morgan Louisiana Pipeline LLC.

Description: Penalty Revenue Crediting Report of Kinder Morgan Louisiana Pipeline LLC.

Filed Date: 1/26/17.

Accession Number: 20170126-5107.

Comments Due: 5 p.m. ET 2/7/17.

Docket Numbers: RP17-355-000.

Applicants: Transcontinental Gas Pipe Line Company.

Description: § 4(d) Rate Filing: Negotiated Rates—Cherokee AGL—Replacement Shippers—Feb 2017 to be effective 2/1/2017.

Filed Date: 1/27/17.

Accession Number: 20170127-5000.

Comments Due: 5 p.m. ET 2/8/17.

Docket Numbers: RP17-356-000.

Applicants: Transcontinental Gas Pipe Line Company.

Description: § 4(d) Rate Filing: Rate Schedule S-2 Tracker effective 02-01-17 to be effective 2/1/2017.

Filed Date: 1/27/17.

Accession Number: 20170127-5005.

Comments Due: 5 p.m. ET 2/8/17.

Docket Numbers: RP17-357-000.

Applicants: Iroquois Gas Transmission System, L.P.

Description: § 4(d) Rate Filing: 01/27/17 Negotiated Rates—Cargill Incorporated (RTS) 3085-28 to be effective 2/1/2017.

Filed Date: 1/27/17.

Accession Number: 20170127-5032.

Comments Due: 5 p.m. ET 2/8/17.

Docket Numbers: RP17-358-000.

Applicants: Southern LNG Company, L.L.C.

Description: § 4(d) Rate Filing: Dredging Surcharge Cost Adjustment—2017 to be effective 3/1/2017.

Filed Date: 1/27/17.

Accession Number: 20170127-5035.

Comments Due: 5 p.m. ET 2/8/17.

Docket Numbers: RP17-359-000.

Applicants: Big Sandy Pipeline, LLC.

Description: § 4(d) Rate Filing: Big Sandy Fuel Filing effective 3-1-2017 to be effective 3/1/2017.

Filed Date: 1/27/17.

Accession Number: 20170127-5036.

Comments Due: 5 p.m. ET 2/8/17.

Docket Numbers: RP17-360-000.

Applicants: KPC Pipeline, LLC.

Description: Compliance filing Compliance Filing to be effective 3/1/2017.

Filed Date: 1/27/17.

Accession Number: 20170127-5039.

Comments Due: 5 p.m. ET 2/8/17.

Docket Numbers: RP17-361-000.

Applicants: Wyoming Interstate Company, L.L.C.

Description: § 4(d) Rate Filing: Fuel and Lost and Unaccounted For Filing to be effective 3/1/2017.

Filed Date: 1/27/17.

Accession Number: 20170127-5053.

Comments Due: 5 p.m. ET 2/8/17.

Docket Numbers: RP17-362-000.

Applicants: Midcontinent Express Pipeline LLC.

Description: Compliance filing Annual Report of Operational Transactions.

Filed Date: 1/27/17.

Accession Number: 20170127-5102.

Comments Due: 5 p.m. ET 2/8/17.

Docket Numbers: RP17-363-000.

Applicants: Eastern Shore Natural Gas Company.

Description: § 4(d) Rate Filing: General Section 4 Rate Case Filing to be effective 3/1/2017.

Filed Date: 1/27/17.

Accession Number: 20170127-5211.

Comments Due: 5 p.m. ET 2/8/17.

Docket Numbers: RP17-364-000.

Applicants: Dominion Cove Point LNG, LP.

Description: § 4(d) Rate Filing: DCP—Keys Energy Project to be effective 3/1/2017.

Filed Date: 1/27/17.

Accession Number: 20170127-5240.

Comments Due: 5 p.m. ET 2/8/17.

Docket Numbers: RP11-1711-000.

Applicants: Texas Gas Transmission, LLC.

Description: Report Filing: 2016 Cash Out Filing.

Filed Date: 1/30/17.

Accession Number: 20170130-5043.

Comments Due: 5 p.m. ET 2/13/17.

Docket Numbers: RP17-365-000.

Applicants: Cheniere Creole Trail Pipeline, L.P.

Description: § 4(d) Rate Filing: Housekeeping_Clean Up Filing to be effective 3/1/2017.

Filed Date: 1/30/17.

Accession Number: 20170130-5093.

Comments Due: 5 p.m. ET 2/13/17.

Docket Numbers: RP17-366-000.

Applicants: Trunkline Gas Company, LLC.

Description: Compliance filing TGC Cost and Revenue Study in Compliance with CP12-491 Order.

Filed Date: 1/30/17.

Accession Number: 20170130-5258.

Comments Due: 5 p.m. ET 2/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2017.
Nathaniel J. Davis, Sr.,
Deputy Secretary.

[FR Doc. 2017-02518 Filed 2-7-17; 8:45 am]

BILLING CODE 6717-01-P